DEPARTMENT OF COMMERCE

National Oceanic and Atmospheric Administration

50 CFR Part 648

[Docket No. 040112010-4114-02; I.D.011105I]

Northeast (NE) Multispecies Fishery; Re-opening of the Eastern U.S./Canada Area; and Removal of Daily Poundage Limits for Yellowtail Flounder in the U.S./Canada Management Area, and Cod in the Eastern U.S./Canada Area

AGENCY: National Marine Fisheries Service (NMFS), National Oceanic and Atmospheric Administration (NOAA), Commerce.

ACTION: Re-opening and removal of daily poundage limits.

SUMMARY: NMFS announces that the Administrator, Northeast Region, NMFS (Regional Administrator), is re-opening the Eastern U.S./Canada Area to all limited access NE multispecies days-at-sea (DAS) vessels and is removing the prohibition on all NE multispecies limited access vessels from harvesting, possessing, or landing Georges Bank (GB) yellowtail flounder from within the entire U.S./Canada Management Area. This action also removes the yellowtail flounder and cod daily poundage limits for the entire U.S./Canada Management Area and Eastern U.S./Canada Area, respectively, but retains the 15,000 lb (6,804 kg) trip limit for GB yellowtail flounder and a 5,000 lb (2,268 kg) trip limit for GB cod, consistent with ensuring that the Total Allowable Catches (TACs) for these species will not be exceeded by the end of the 2004 fishing year.

DATES: Effective 0001 hr local time, January 14, 2005, through 2400 hr local time April 30, 2005.

FOR FURTHER INFORMATION CONTACT: Karen Tasker, Fishery Management Specialist, (978) 281-9273, fax (978) 281-9135.

SUPPLEMENTARY INFORMATION: Regulations governing the yellowtail flounder and cod landing limits within the U.S./Canada Management Area are found at 50 CFR 648.85(a)(3)(iv). The regulations authorize vessels issued a valid limited access NE multispecies permit and fishing under a NE multispecies DAS to fish in the U.S./Canada Management Area under specific conditions. The TAC allocation for GB yellowtail flounder for the 2004 fishing year was specified at 6,000 mt in the final rule implementing Amendment 13 to the NE Multispecies Fishery Management Plan (FMP). Once 30 percent and/or 60 percent of the yellowtail flounder TAC allocations specified for the U.S./Canada Management Area are projected to have been harvested, the regulations at § 648.85(a)(3)(iv)(D) authorize the Regional Administrator to close access to the Eastern U.S./Canada Area to all limited access NE multispecies DAS vessels and prohibit all NE multispecies limited access vessels from harvesting, possessing, or landing GB yellowtail flounder from the entire U.S./Canada Management Area to prevent overharvesting or underharvesting the yellowtail flounder TAC allocation.

Based upon Vessel Monitoring System (VMS) reports and other available information, the Regional Administrator determined that 85 percent of the GB yellowtail flounder TAC had been harvested by October 1, 2004 (69 FR 59815, October 6, 2004). NMFS closed the Eastern U.S./Canada Area, effective October 1, 2004, to all NE multispecies DAS vessels and prohibited all NE multispecies vessels from harvesting, possessing, or landing GB yellowtail flounder from the U.S./Canada Management Area, because of concerns that the yellowtail flounder TAC would be fully harvested or overharvested prior to the end of the fishing year. Full harvest or overharvest of the TAC was anticipated due to the amount of yellowtail flounder harvested by vessels targeting yellowtail flounder in the U.S./Canada Management Area, and because of concerns regarding expected yellowtail flounder bycatch by vessels targeting groundfish other than yellowtail flounder within the U.S./Canada Management Area. Additional concern was raised by the potential impact that may be caused by scallop vessels fishing in Closed Area II under the Sea Scallop Access Program implemented under Frameworks 16/39 to the Atlantic Sea Scallop/NE Multispecies FMPs. Because of these potential sources of yellowtail flounder harvest, this action was necessary to ensure that the GB yellowtail flounder TAC would not be exceeded during the 2004 fishing year.

At this time, data indicate that the amount of GB yellowtail flounder harvested under the Sea Scallop Access Program and the amount of GB yellowtail flounder bycatch caught by vessels targeting groundfish other than yellowtail flounder within the U.S./Canada Management Area will likely not result in the overharvest of the TAC. Therefore, under the authority of § 648.85(a)(3)(iv)(D), NMFS is re-opening the U.S./Canada Management Area to NE multispecies DAS vessels, and removing the prohibition on the harvest, possession, and landing of GB yellowtail flounder by all NE multispecies vessels within the entire U.S./Canada Management Area, effective January 14, 2005. In addition, this action removes the previous daily poundage limits for GB yellowtail flounder and GB cod for the entire U.S./Canada Management Area and the Eastern U.S./Canada Area, respectively, and reinstates the 15,000 lb (6,804 kg) and 5,000 lb (2,268 kg) trip limit for GB yellowtail flounder and GB cod, respectively, consistent with ensuring that the TACs for these species will not be exceeded by the end of the 2004 fishing year. Removal of the daily poundage limits for these species provides flexibility to the fishing industry by allowing vessels that may need to end their trip prematurely due to an unexpected event, such as poor weather conditions, with the ability to retain their catch onboard when entering port (catches of species with daily poundage caps must be offloaded when a vessel enters port). The overall trip limits will help ensure that the mortality goals of the FMP are met. Additionally, trawl vessels fishing in the Eastern U.S./Canada Area may only fish with a haddock separator net, as described in § 648.85(a)(3)(iii)(A), for the purposes of reducing bycatch of both GB cod and GB yellowtail flounder to allow greater access to the remaining GB haddock TAC for the rest of the fishing year.

Yellowtail flounder landings will be closely monitored through VMS and other available information and, once 100 percent of the TAC allocation for GB yellowtail flounder is projected to be harvested, the Eastern U.S./Canada Area will be closed to NE multispecies DAS vessels and the harvesting, possession, and landing of yellowtail flounder by NE multispecies vessels in the U.S./Canada Management Area will be prohibited, in accordance with the regulations § 648.85(a)(3)(iv)(C)(3).

Classification

This action re-opens the Eastern U.S./Canada Area to the harvest of GB yellowtail flounder, and essentially restores access to this area with similar restrictions before the closure by removing a prohibition on the possession of GB yellowtail flounder in the U.S./Canada Management Area in order to allow vessels to fully harvest the TAC of GB yellowtail flounder. If implementation of this action is delayed, NMFS could be prevented from permitting the full harvest of the GB yellowtail flounder stock, GB cod, and GB haddock TACs. The directed harvest of the GB yellowtail flounder stock began on May 1, 2004, and additional fishing opportunity on the stock was provided as of June 1, 2004, with the opening of the Closed Area II Yellowtail Flounder Special Access Program (SAP). If a proposed rule for this action, or delay in effectiveness were required, access to the Eastern U.S./Canada Area, as well as the ability to harvest yellowtail flounder from within the entire U.S./Canada Management Area, would be delayed and would create an unnecessary burden on the industry. For the above reason, under 5 U.S.C. 553(b)(3), proposed rulemaking is not necessary because it would be contrary to the public interest. Furthermore, because this rule relieves a restriction, there is good cause under 5 U.S.C 553(d)(3) to waive the 30-day delayed effectiveness period for this action.

This action is required by 50 CFR part 648 and is exempt from review under Executive Order 12866.

Authority: 16 U.S.C. 1801 et seq.

Dated: January 12, 2005.
Alan D. Risenhoover,
Acting Director, Office of Sustainable Fisheries, National Marine Fisheries Service.

[FR Doc. 05-926 Filed 1-12-05; 4:30 pm]

BILLING CODE 3510-22-S